NUCLEAR REGULATORY COMMISSION

Sunshine Act Meeting

AGENCY HOLDING THE MEETING: Nuclear Regulatory Commission

DATE: Weeks of June 26, July 3, 10, 17, 24, and 31, 2000

PLACE: Commissioners' Conference Room, 11555 Rockville Pike, Rockville, Maryland

STATUS: Public and Closed

MATTERS TO BE CONSIDERED:

Week of June 26

There are no meetings scheduled for the Week of June 26.

Week of July 3—Tentative

There are no meetings scheduled for the Week of July 3.

Week of July 10—Tentative

Monday, July 10

1:25 p.m. Affirmation Session (Public Meeting)

a: Rulemaking to Modify the Event Reporting Requirements for Power Reactors in 10 CFR 50.72 and 50.73 and for Independent Spent Fuel Storage Installations (ISFI) in 10 CFR 72.216

1:30 p.m. Briefing on Proposed Export of High Enriched Uranium to Canada (Public Meeting)

Week of July 17—Tentative

There are no meetings scheduled for the Week of July 17.

Week of July 24—Tentative

Tuesday, July 25

1:25 p.m. Affirmation Session (Public Meeting) (If necessary)

Week of July 31—Tentative

There are no meetings scheduled for the Week of July 31.

Note: The schedule for commission meetings is subject to change on short notice. To verify the status of meetings call (Recording)—(301) 415-1292. Contact Person for more information: Bill Hill (301) 415-1661.

ADDITIONAL INFORMATION: By a vote of 5-0 on June 19, the Commission determined pursuant to U.S.C. 552b(e) and § 9.107(a) of the Commission's rules that “Discussion of Intragovernmental Issues” (Closed—Ex. 4 and 9) be held on June 19, and on less than one week's notice to the public.

By a vote of 5-0 on June 20, the Commission determined pursuant to U.S.C. 552b(e) and § 9.107(a) of the Commission's rules that “Affirmation of Carolina Power & Light Company (Shearon Harris Nuclear Power Plant), Docket No. 50-400-LA, LBP-00-12 (Memorandum and Order Ruling on Designation of Issues for an Evidentiary Hearing) (May 5, 2000)” (Public Meeting) be held on June 20, and on less than one week's notice to the public.

The NRC Commission Meeting Schedule can be found on the Internet at:

http://www.nrc.gov/SECY/smj/schedule.htm

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

Dated: June 23, 2000.
William M. Hill, Jr.,
SECY Tracking Officer, Office of the Secretary.

[FR Doc. 00-16342 Filed 6-23-00; 2:08 pm]

BILLING CODE 7590-01-M